INTERNATIONAL TRADE COMMISSION

[Investigation No. 701-TA-487 and 731-TA-1197-1198 (Review)]

Steel Wire Garment Hangers From Taiwan and Vietnam

Determinations

On the basis of the record ¹ developed in the subject five-year reviews, the United States International Trade Commission (“Commission”) determines, pursuant to the Tariff Act of 1930 (“the Act”), that revocation of the antidumping duty orders on steel wire garment hangers from Taiwan and Vietnam and the countervailing duty order on steel wire garment hangers from Vietnam would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on November 1, 2017 (82 FR 50686) and determined on February 5, 2018 that it would conduct expedited reviews (83 FR 11563, March 15, 2018).

The Commission made these determinations pursuant to section 751(c) of the Act (19 U.S.C. 1675(c)). It completed and filed its determinations in these reviews on May 16, 2018. The views of the Commission are contained in USITC Publication 4784 (May 2018), entitled Steel Wire Garment Hangers from Taiwan and Vietnam: Investigation Nos. 701-TA-487 and 731-TA-1197-1198 (Review).

By order of the Commission.
Issued: May 16, 2018.
Lisa Barton,
Secretary to the Commission.

[FR Doc. 2018-10839 Filed 5-21-18; 8:45 am]

BILLING CODE 7020-02-P